ENVIRONMENTAL PROTECTION AGENCY

[FRL-9620-5]

Regulation of Fuel and Fuel Additives: Modification to Octamix Waiver

AGENCY: Environmental Protection Agency (EPA).

ACTION: Notice.

SUMMARY: On February 1, 1988, the Environmental Protection Agency (EPA) conditionally granted a waiver requested by the Texas Methanol Corporation (Texas Methanol) for a gasoline-alcohol fuel, pursuant to section 211(f) of the Clean Air Act.¹ A minor correction was made on May 12, 1988.² A modification to the original conditions was made on October 21, 1988.³ Baker Hughes submitted a request to modify the waiver. The new request seeks approval on an alternative corrosion inhibitor, TOLAD™ MFA-10A, to be used within Texas Methanol's gasoline-alcohol fuel, also known as OCTAMIX. EPA considers this to be a request for modification of the waiver under 211(f) of the Clean Air Act (Act).

¹ 53 FR 3636, February 8, 1988.

² 53 FR 17977, May 19, 1988.

³ 53 FR 43768, October 28, 1988.

DATES: Comments or a request for a public hearing must be received on or before February 21, 2012. EPA does not plan to hold a public hearing on this notice, unless one is requested. If requested by February 6, 2012, a public hearing will be held. If such a hearing is held, comments must be received within 90 days after the date of such hearing.

ADDRESSES: Submit your comments, identified by Docket ID Number EPA-HQ-OAR-2011-0894, by one of the following methods:

• www.regulations.gov: Follow the on-line instructions for submitting comments.

• Email: a-and-r-Docket@epa.gov.

• Fax: (202) 566-9744.

• Mail: EPA-HQ-OAR-2011-0894, Environmental Protection Agency, Mailcode: 2822T, 1301 Constitution Ave. NW., Washington, DC 20460.

• Hand Delivery: EPA Headquarters Library, Room 3334, EPA West Building, 1301 Constitution Ave. NW., Washington, DC. Such deliveries are only accepted during the Docket's normal hours of operation, and special arrangements should be made for deliveries of boxed information.

Instructions: Direct your comments to Docket ID Number EPA-HQ-OAR-2011-0894. EPA's policy is that all comments will be included in the public docket without change and may be made available online at www.regulations.gov, http://www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Unit 1.B of the SUPPLEMENTARY INFORMATION section of this document: http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Docket, EPA Headquarters Library, Mail Code: 2822T, EPA West Building, 1301 Constitution Ave. NW., Washington, DC. The Public Reading Room is open from 8:30 a.m. to 4:30 p.m., Monday through Friday, excluding holidays. The telephone number for the Public Reading Room is (202) 566-1742, and the facsimile number for the Air Docket is (202) 566-9744.

FOR FURTHER INFORMATION CONTACT: For information regarding this proposal contact, Joseph R. Sopata, U.S. Environmental Protection Agency, Office of Air and Radiation, Office of Transportation and Air Quality, (202) 343-9034.

SUPPLEMENTARY INFORMATION:

I. Background

Section 211(f)(1) of the Clean Air Act (“CAA” or “the Act”) makes it unlawful for any manufacturer of any fuel or fuel additive to first introduce into commerce, or to increase the concentration in use of, any fuel or fuel additive for use by any person in motor vehicles manufactured after model year 1974, which is not substantially similar to any fuel or fuel additive utilized in the certification of any model year 1975, or subsequent model year, vehicle or engine under section 206 of the Act. The Environmental Protection Agency (“EPA” or “the Agency”) last issued an interpretive rule on the phrase “substantially similar” at 73 FR 22281 (April 25, 2008). Generally speaking, this interpretive rule describes the types of unleaded gasoline that are likely to be considered “substantially similar” to the unleaded gasoline utilized in EPA's certification program by placing limits on a gasoline's chemical composition as well as its physical properties, including the amount of alcohols and ethers (oxygenates) that may be added to gasoline. Fuels that are found to be “substantially similar” to EPA's certification fuels may be registered and introduced into commerce. The current “substantially similar” interpretive rule for unleaded gasoline allows oxygen content up to 2.7 weight for certain ethers and alcohols.

Section 211(f)(4) of the Act provides that upon application of any fuel or fuel additive manufacturer, the Administrator may waive the prohibitions of section 211(f)(1) if the Administrator determines that the applicant has established that the fuel or fuel additive, or a specified concentration thereof, will not cause or contribute to a failure of any emission control device or system (over the useful life of the motor vehicle, motor vehicle engine, nonroad engine or nonroad vehicle in which such device or system is used) to achieve compliance by the vehicle or engine with the emission standards to which it has been certified pursuant to sections 206 and 213(a) of the Act. The statute requires that the Administrator shall take final action to grant or deny an application after public notice and comment, within 270 days of receipt of the application.

The Texas Methanol Corporation received a waiver under CAA section 211(f)(4) for a gasoline-alcohol fuel blend, known as OCTAMIX,⁴ provided that the resultant fuel is composed of a maximum of 3.7 percent by weight fuel oxygen, a maximum of 5 percent by volume methanol, a minimum of 2.5 percent by volume co-solvents ⁵ and 42.7 milligrams per liter (mg/l) of Petrolite TOLAD MFA-10 corrosion inhibitor.⁶ In the OCTAMIX waiver, the Agency invited other corrosion inhibitor manufacturers to submit test data to establish, on a case-by-case basis, whether their fuel additive formulations are acceptable as alternatives to TOLAD™ MFA-10.⁷ The physical properties of TOLAD™ MFA-10A are shown in EPA-HQ-OAR-2011-0894-0002.

⁴ OCTAMIX decision, 53 FR 3636 (February 8, 1988).

⁵ The co-solvents are any one or a mixture of ethanol, propanols, butanols, pentanols, hexanols, heptanols and octanols with the following constraints; the ethanol, propanols and butanols or mixtures thereof must compose a minimum of 60 percent by weight of the co-solvent mixture; a maximum limit of 40 percent by weight of the co-solvents mixture is placed on the pentanols, hexanols, heptanols and octanols; and the heptanols and octanols are limited to 5 percent by weight of the co-solvent mixture.

⁶ Additional conditions were the final fuel must meet ASTM volatility specifications contained in ASTM D439-85a, as well as phase separation conditions specified in ASTM D-2 Proposal P-176 and Texas Methanol alcohol purity specifications.

⁷ 53 FR at 3637.

II. Today's Announcement

On October 14, 2011, Baker Hughes requested EPA allow the use of its alternative corrosion inhibitor, TOLAD™ MFA-10A, in the OCTAMIX gasoline-alcohol fuel blend which otherwise would not be allowed under the waiver.⁸ TOLAD™ MFA-10A is a fuel additive formulation consisting of a corrosion inhibitor.

⁸ EPA-HQ-OAR-2011-0894-0001.

One of the major areas of concern to EPA in reviewing any waiver request is the problem of materials compatibility. Materials compatibility data could show a potential failure of fuel systems, emissions related parts and emission control parts from use of the fuel or fuel additive. Any failure could result in greater emissions that would cause or contribute to the engines or vehicles exceeding their emissions standards. Initially, Texas Methanol requested the use of TOLAD MFA-10 or an appropriate concentration of any other corrosion inhibitor such that the fuel will pass the National Association of Corrosion Engineer's TM-01-72 (NACE RUST TEST). However, EPA concluded that compliance with the NACE Rust Test alone was not adequate in determining suitability of a corrosion inhibitor for use under the OCTAMIX waiver.⁹ The Agency decided, therefore, to look at corrosion inhibitors on a case-by-case basis to establish whether each formulation would be acceptable as an alternative to the formulation of the original corrosion inhibitor used in the OCTAMIX waiver.¹⁰

⁹ 53 FR at 3637

¹⁰ 53 FR at 3637.

Therefore, pursuant to section 211(f)(4), EPA will examine the data submitted by Baker Hughes, along with all comments received from interested parties, to determine whether use of the corrosion inhibitor, TOLAD™ MFA-10A, in place of the original corrosion inhibitor TOLAD MFA-10, would cause or contribute to vehicles or engines failing to meet their emissions standards when using OCTAMIX. If use of TXCeed does not cause or contribute to such failures, EPA will modify the OCTAMIX waiver to allow the use of TOLAD™ MFA-10A as an alternative corrosion inhibitor to TOLAD MFA-10.

Dated: January 13, 2012.
Gina McCarthy,
Assistant Administrator, Office of Air and Radiation.

[FR Doc. 2012-1073 Filed 1-19-12; 8:45 am]

BILLING CODE 6560-50-P